DEPARTMENT OF LABOR

Employment and Training Administration

[TA-W-73,174]

EMD Chemicals, Inc. Including On-Site Independent Contractors and Leased Workers From Ajilen, Ranstad, Assigned Counsel, Emerson Personnel, J&J Staffing, Accountemps/Robert Half, EMD Temps, Chromhelp, and Greentree Food Management, Gibbstown, NJ; Amended Certification Regarding Eligibility To Apply for Worker Adjustment Assistance

In accordance with Section 223 of the Trade Act of 1974, as amended (“Act”), 19 U.S.C. 2273, the Department of Labor issued a Certification of Eligibility to Apply for Worker Adjustment Assistance on April 14, 2010, applicable to workers of EMD Chemicals, Inc., including on-site independent contractors and leased workers from Ajilen, Ranstad, Assigned Counsel, Emerson Personnel, J&J Staffing, Accountemps/Robert Half, EMD Temps, and ChromHelp, Gibbstown, New Jersey. The workers are engaged in activities related to the production of specialty chemicals. The notice was published in the Federal Register on May 20, 2010 (75 FR 28300).

At the request of the State agency, the Department reviewed the certification for workers of the subject firm. The company reports that independent contract workers from Greentree Food Management were employed on-site at the Gibbstown, New Jersey location of EMD Chemicals. The Department has determined that these workers were sufficiently under the control of EMD Chemicals, Inc. to be included in this certification.

Based on these findings, the Department is amending this certification to include workers from Greentree Food Management working on-site at EMD Chemicals, Inc., Gibbstown, New Jersey.

The amended notice applicable to TA-W-73,174 is hereby issued as follows:

All workers of EMD Chemicals, Inc., including on-site independent contractors and leased workers from Ajilen, Ranstad, Assigned Counsel, Emerson Personnel, J&J Staffing, Accountemps/Robert Half, EMD Temps, ChromHelp, and Greentree Food Management, Gibbstown, New Jersey, who became totally or partially separated from employment on or after December 21, 2008, through April 14, 2012, and all workers in the group threatened with total or partial separation from employment on the date of certification through two years from the date of certification, are eligible to apply for adjustment assistance under Chapter 2 of Title II of the Trade Act of 1974, as amended.

Signed at Washington, DC, this 18th day of October 2011.
Michael W. Jaffe,
Certifying Officer, Office of Trade Adjustment Assistance.

[FR Doc. 2011-27992 Filed 10-28-11; 8:45 am]

BILLING CODE 4510-FN-P